DEPARTMENT OF HOMELAND SECURITY

Federal Emergency Management Agency

[Docket ID: FEMA-2010-0026]

Agency Information Collection Activities: Proposed Collection; Comment Request, 1660-0046; FEMA/EMI Independent Study Course Enrollment and Test Answer Sheet

AGENCY: Federal Emergency Management Agency, DHS.

ACTION: Notice; 60-day notice and request for comments; revision of a currently approved information collection; OMB No. 1660-0046; FEMA Form 064-0-9 (formerly 95-23), FEMA/EMI Independent Study Course Enrollment and Test Answer Sheet (paper and electronic).

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information necessary to allow students to enroll in online independent study courses and take the tests after study is complete.

DATES: Comments must be submitted on or before July 6, 2010.

ADDRESSES: To avoid duplicate submissions to the docket, please use only one of the following means to submit comments:

(1) Online. Submit comments at http://www.regulations.gov under docket ID FEMA-2010-0026. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2010-0026 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Mollie Herrick, Systems Specialist, FEMA/EMI/Distance Learning Branch at 301-447-1407 for additional information. You may contact the Records Management Division for copies of the proposed collection of information at facsimile number (202) 646-3347 or e-mail address: FEMA-Information-Collections-Management@dhs.gov.

SUPPLEMENTARY INFORMATION: FEMA's Emergency Management Institute (EMI) provides a wide variety of training to emergency management personnel throughout the country. The EMI Independent Study (IS) Program is part of the FEMA training program authorized under the Robert T. Stafford Disaster Relief and Emergency Act, 42 U.S.C. 5121-5207, Public Law 93-288 as amended. These courses are offered online by the Emergency Management Institute (EMI). The IS Program provides valuable training to Federal, State, local and Tribal emergency management personnel and the general citizenry of the United States without having to attend a resident course at EMI, or at a State-sponsored course. The National Incident Management System (NIMS) is our nation's incident management system. Homeland Security Presidential Directive 5, “Management of Domestic Incidents” requires the adoption of NIMS by all Federal departments and agencies. This directive also requires that Federal preparedness assistance funding for States, Territories, local jurisdictions and Tribal entities be dependent on being NIMS compliance.

Collection of Information

Title: FEMA/EMI Independent Study Course Enrollment and Test Answer Sheet.

Type of Information Collection: Revision of a currently approved information collection.

OMB Number: 1660-0046.

Form Titles and Numbers: FEMA Form 064-0-9 (formerly 95-23), FEMA/EMI Independent Study Course Enrollment and Test Answer Sheet (paper and electronic).

Abstract: The Independent Study (IS) program offers self-paced courses designed for people who have emergency management responsibilities and the general public. All are offered free-of-charge to those who qualify for enrollment. Those who wish to participate select the course(s) they want to take, review the material and then complete an examination covering coursework. Successful completion results in a certificate that can be used to obtain continuing learning credit or even college credit.

Affected Public: Individuals and households, business or other for-profit, not for profit institutions, farms, Federal government, State, local or Tribal government.

Estimated Total Annual Burden Hours: 3,925,204 Hours.

Estimated Annualized Burden Hours and Costs
Type of respondent | Form name/Form No. | Number of respondents | Number of responses per respondent | Total number of responses | Avg. burden per response (in hours) | Total annual burden (in hours) | Avg. hourly wage rate | Total annual respondent cost
State, local or Tribal Government; Business or other for-profit; Not-for-profit institutions; Individuals or households; farms | FEMA/EMI Independent Study Course Enrollment and Test Answer Sheet/FEMA Form 064-0-9 (Electronic) | 1,682,231 | 4 | 6,728,924 | 0.5 | 3,364,462 | $28.45 | $95,718,944
State, local or Tribal Government; Business or other for-profit; Not-for-profit institutions; Individuals or households; farms | FEMA/EMI Independent Study Course Enrollment and Test Answer Sheet/FEMA Form 064-0-9 (Paper) | 186,914 | 4 | 747,656 | 0.75 | 560,742 | 28.45 | 15,953,110
Total |  | 1,869,145 |  | 7,476,580 |  | 3,925,204 |  | 111,672,054

Estimated Cost: There are no annual capital, start-up, operation or maintenance costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 28, 2010.
Samuel C. Smith,
Acting Director, Records Management Division, Mission Support Bureau, Federal Emergency Management Agency, Department of Homeland Security.

[FR Doc. 2010-10525 Filed 5-4-10; 8:45 am]

BILLING CODE 9111-72-P